DEPARTMENT OF COMMERCE

National Oceanic and Atmospheric Administration

RIN 0648-XA182

Endangered and Threatened Species; Take of Anadromous Fish

AGENCY: National Marine Fisheries Service (NMFS), National Oceanic and Atmospheric Administration (NOAA), Commerce.

ACTION: Notice of receipt of a permit application; request for comments.

SUMMARY: Notice is hereby given that NMFS has received an application for a permit to conduct research for scientific purposes from Stillwater Sciences (Stillwater) in Arcata, California. The requested permit would affect the endangered Southern California (SC) Distinct Population Segment (DPS) of steelhead (Oncorhynchus mykiss). The public is hereby notified of the availability of the permit application for review and comment before NMFS either approves or disapproves the application.

DATES: Written comments on the permit application must be received at the appropriate address or fax number (see ADDRESSES) on or before March 2, 2011.

ADDRESSES: Written comments on the permit application should be sent to Matt McGoogan, Protected Resources Division, NMFS, 501 W. Ocean Blvd., Suite 4200, Long Beach, CA 90802. Comments may also be sent using e-mail (FRNpermits.lb@noaa.gov) or fax (562.980.4027). The permit application is available for review, by appointment, at the foregoing address and is also available for review online at the Authorizations and Permits for Protected Species Web site at https://apps.nmfs.noaa.gov.

FOR FURTHER INFORMATION CONTACT: Matt McGoogan at phone number (562.980.4026) or e-mail: matthew.mcgoogan@noaa.gov.

SUPPLEMENTARY INFORMATION:

Authority

Issuance of permits, as required by the Endangered Species Act of 1973 (16 U.S.C. 1531-1543) (ESA), is based on a finding that such permits: (1) Are applied for in good faith; (2) would not operate to the disadvantage of the listed species which are the subject of the permits; and (3) are consistent with the purposes and policies set forth in section 2 of the ESA. Authority to take listed species is subject to conditions set forth in the permits. Permits are issued in accordance with and are subject to the ESA and NMFS regulations governing listed fish and wildlife permits (50 CFR parts 222-226).

Those individuals requesting a hearing on an application listed in this notice should provide the specific reasons why a hearing on that application would be appropriate (see ADDRESSES). The holding of such a hearing is at the discretion of the Assistant Administrator for Fisheries, NOAA. All statements and opinions contained in the permit action summaries are those of the applicant and do not necessarily reflect the views of NMFS.

Permit Application Received

Stillwater has applied for a permit (permit 15774) to study steelhead in the Santa Maria River watershed. The purpose of this study is to gather information that will contribute to the understanding of steelhead rearing and over-summering patterns in the Santa Maria River estuary and abundance and distribution of steelhead in the upper Sisquoc River (a tributary to the Santa Maria River). In the Santa Maria River estuary monitoring methods include the use of hand nets, seine nets, and minnow traps to sample for the presence of steelhead during different times of the year. In the upper Sisquoc River direct underwater observation techniques (i.e. snorkel surveys) are proposed for estimating abundance and distribution of steelhead. Field activities will occur between March 2011 and December 2015. Stillwater has requested an annual non-lethal take of 100 juvenile steelhead and 20 smolts for the activities proposed in the Santa Maria River estuary. In the upper Sisquoc River, Stillwater is requesting permission to observe up to 3000 juvenile and 10 adult steelhead annually during snorkel surveys. The unintentional lethal take that may occur as a result of research activities in the Santa Maria River estuary is up to 1 juvenile steelhead and 1 smolt annually. No unintentional lethal take is expected from research activities in the Sisquoc River. Overall, no intentional lethal take steelhead is expected in association with any aspect of these research activities.

Dated: January 25, 2011.
Therese Conant,
Acting Chief, Endangered Species Division, Office of Protected Resources, National Marine Fisheries Service.

[FR Doc. 2011-2064 Filed 1-28-11; 8:45 am]

BILLING CODE 3510-22-P